DEPARTMENT OF HEALTH AND HUMAN SERVICES

Call for Co-Sponsors for Office of Healthcare Quality's Programs to Strengthen Coordination and Impact National Efforts in the Prevention of Healthcare-Associated Infections (HAIs)

AGENCY: Department of Health and Human Services, Office of the Secretary, Office of Public Health and Science, Office of Healthcare Quality.

ACTION: Notice.

SUMMARY: The U.S. Department of Health and Human Services (HHS), Office of Public Health and Science (OPHS), Office for Healthcare Quality (OHQ) announces the opportunity to collaborate with the U.S. Department of Health and Human Services (HHS). HHS invites public and private professional health related organizations to participate as collaborating co-sponsors in the development and implementation of an innovative program that advances the goals enumerated in the HHS Action Plan to prevent Healthcare-Associated Infections.

DATES: Expressions of interest for FY 2010-11 must be received no later than cob April 15, 2010.

ADDRESSES: Expressions of interest, comments, and questions may be submitted by e-mail to ohq@hhs.gov; by regular mail to Office of Healthcare Quality, Department of Health and Human Services, 200 Independence Ave., SW., Room 716G, Washington, DC 20201, or via fax to 202-401-9547.

FOR FURTHER INFORMATION CONTACT: Daniel Gallardo via electronic mail to Daniel.Gallardo@hhs.gov; or by phone at 202-690-2470.

SUPPLEMENTARY INFORMATION: Healthcare-associated infections (HAIs) exact a significant toll on human life. They are among the leading causes of preventable death in the United States, accounting for an estimated 1.7 million infections and 99,000 associated deaths in 2002. In hospitals, they are a significant cause of morbidity and mortality. In addition to the substantial human suffering caused by healthcare-associated infections, the financial burden attributable to the infections is staggering. It is estimated that healthcare-associated infections cause $28 to $33 billion in excess healthcare costs each year. For these reasons, the prevention and reduction of healthcare-associated infections is a top priority for the U.S. Department of Health and Human Services (HHS).

The HHS Steering Committee for the Prevention of Healthcare-Associated Infections, led by Dr. Don Wright, Deputy Assistant Secretary for Healthcare Quality, was established in July 2008. The Steering Committee was charged with developing a comprehensive strategy to prevent and reduce healthcare-associated infections and issuing a plan which establishes national goals for healthcare-associated infection prevention and outlines key actions for achieving identified short- and long-term objectives. The plan, released in January 2009 as the HHS Action Plan, is also intended to enhance collaboration with external stakeholders to strengthen coordination and impact of national efforts.

Therefore, OHQ is interested in establishing partnerships with private and public professional health organizations in order to further the efforts in the prevention of Healthcare-Associated Infections. As partners with OHQ, professional health related organizations can bring their ideas, expertise, administrative capabilities, and resources in the development of a program(s) that promotes the reduction and prevention of Healthcare-Associated Infections at the National level.

Given OHQ's objective, entities which have similar goals and consistent interests, appropriate expertise and resources, and which would like to pursue a Co-Sponsorship opportunity with OHQ, are encouraged to reply to this notice with a program proposal. Working together, these partnerships will provide opportunities to promote the prevention and reduction of healthcare-associated infections.

Dated: March 22, 2010.
Don Wright,
Deputy Assistant Secretary for Healthcare Quality, Office of Healthcare Quality, Office of Public Health and Science.

[FR Doc. 2010-7227 Filed 3-30-10; 8:45 am]

BILLING CODE 4150-28-P